FEDERAL COMMUNICATIONS COMMISSION

Information Collection Being Submitted for Review and Approval to the Office of Management and Budget (OMB)

AGENCY: Federal Communications Commission (FCC).

ACTION: Notice; request for comments.

SUMMARY: As part of its continuing effort to reduce paperwork burden and as required by the Paperwork Reduction Act (PRA) of 1995 (44 U.S.C. 3502—3520), the FCC invites the general public and other Federal agencies to take this opportunity to comment on the following information collection. Comments are requested concerning: whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB Control Number. No person shall be subject to any penalty for failing to comply with a collection of information subject to the PRA that does not display a valid OMB Control Number.

DATES: Written PRA comments should be submitted on or before October 16, 2014. If you anticipate that you will be submitting PRA comments, but find it difficult to do so within the period of time allowed by this notice, you should advise the FCC contact listed below as soon as possible.

ADDRESSES: Submit your PRA comments to Nicholas A. Fraser, Office of Management and Budget (OMB), via fax at 202-395-5167, or via the Internet at Nicholas_A._Fraser@omb.eop.gov and to Leslie F. Smith, Office of Managing Director (OMD), Federal Communications Commission (FCC), via the Internet at Leslie.Smith@fcc.gov. To submit your PRA comments by email, please send them to: PRA@fcc.gov.

FOR FURTHER INFORMATION CONTACT: Leslie F. Smith, Office of Managing Director (OMD), Federal Communications Commission (FCC), at 202-418-0217, or via the Internet at: Leslie.Smith@fcc.gov.

SUPPLEMENTARY INFORMATION:

OMB Control Number: 3060-0760.

Title: 272 Sunset Order, WC Docket No. 06-120; Access Charge Reform, CC Docket No. 96-262, First Report and Order; Second Order on Reconsideration and Memorandum Opinion and Order; and Fifth Report and Order.

Form Number: N/A.

Type of Review: Revision of a currently approved collection.

Respondents: Business or other for-profit.

Number of Respondents and Responses: 13 respondents; 367 responses.

Estimated Time per Response: Approximately 3-300 hours.

Frequency of Response: One-time reporting requirement; on-occasion reporting requirement; third-party disclosure requirement.

Obligation To Respond: Required to obtain or retain benefits. Statutory authority for this information collection is contained in 47 U.S.C. sections 151, 154(i), 155, 201-205, and 303(r) of the Communications Act of 1934, as amended.

Total Annual Burden: 6,170 hours.

Total Annual Cost: $310,115.

Privacy Act Impact Assessment: No impact(s).

Nature and Extent of Confidentiality: The information requested is not of a confidential nature. However, respondents may request materials or information submitted to the Commission be withheld from public inspection under 47 CFR 0.459 of the Commission's rules.

Needs and Uses: In an August 1999 Fifth Report and Order and Further Notice of Proposed Rulemaking (Pricing Flexibility Order), CC Docket 96-262 et al., the Commission adopted detailed rules so that incumbent local exchange carriers subject to price cap regulation could receive pricing flexibility in the provision of interstate access services as competition for those services developed, 47 C.F.R. §§ 69.701 et seq. Pursuant to these rules, a carrier is required to file a petition with the Commission demonstrating that the competitive showings contained in the rules are satisfied to receive various levels of pricing flexibility. These showings, which focus on unaffiliated collocations in wire centers, are intended to measure the presence of competition in a given Metropolitan Statistical Area (MSA) or non-MSA so that regulatory relief is granted where warranted. The Commission's rules provide that petitions for pricing flexibility for special access services that are not denied within 90 days after the close of the pleading cycle are deemed granted.

In an August 2012 Report and Order, FCC 12-92, 57 FR 57504 (Sept. 12, 2012), the Commission suspended, on an interim basis, the 90-day deadline for the granting of pricing flexibility pending adoption of a new regulatory framework. Notwithstanding the temporary suspension, the Commission is seeking Office of Management and Budget (OMB) approval for an extension to obtain the full three-year clearance for this expiring collection in the event the suspension is lifted. The Commission will separately seek OMB's approval for any subsequent modification of this collection, as a result of changes to the pricing flexibility rules, in accordance with the Paperwork Reduction Act of 1995, Public Law 104-13.

Federal Communications Commission.
Marlene H. Dortch,
Secretary, Office of the Secretary, Office of the Managing Director.

[FR Doc. 2014-22023 Filed 9-15-14; 8:45 am]

BILLING CODE 6712-01-P